DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 7, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Risk Management Agency

Title: Subpart U-Ineligibility for Programs under the Federal Crop Insurance Act.

OMB Control Number: 0563-0085.

Summary of Collection: FCIC is a wholly-owned Government corporation created February 16, 1938 (7 U.S.C. 1501). The program was amended previously, but Public Law 96-365, dated September 26, 1980, provided for nationwide expansion of a comprehensive crop insurance program. The Federal Crop Insurance Act (Act), as amended in later years, further expanded the role of the crop insurance program to be the principal tool for risk management by producers of agricultural commodities. The Act further required that the crop insurance program operate on an actuarially sound basis. To meet these goals, existing crop programs must be improved and expanded, new crop products developed, and new insurance concepts studied for possible implementation. Meeting these goals requires the collection of a wide range of information (data elements). These data elements are used in part to determine insurance coverage, premiums, subsidies, payments, and indemnities. It creates an information database used to support continued development and improvements in crop insurance products available to producers and which meet the goal of a sound insurance program. The Act was again amended on June 20, 2000, by Public Law 106-224 which mandates changes to crop insurance regulations, provides for independent review of crop insurance products by persons experienced as actuaries and in underwriting, and gives contracting authority for the development of new products.

Need and Use of the Information: The purpose of collecting the information is to ensure persons that are ineligible for benefits under the Federal crop insurance program are accurately identified as such and do not obtain benefits to which they are not eligible. A person can become ineligible for benefits for three reasons: (1) Debt on unpaid premium or overpaid indemnity (information provided by AIP; (2) Debt on unpaid CAT fee (information provided by AIP); and (3) Debarment/disqualification/suspension, including but not limited to judgement, civil fines, etc. The Federal Crop Insurance Corporation and AIPs use the information collected to determine whether a person seeking to obtain Federal crop insurance coverage are ineligible for such coverage according to the statutory/regulatory mandates identified. Failure to collect the applicable information could result in unearned Federal benefits being issued.

Description of Respondents: Businesses or other for-profits.

Number of Respondents: 14.

Frequency of Responses: On occasions; Annually.

Total Burden Hours: 2,207.

Levi S. Harrell,
Departmental Information Clearance Officer.

[FR Doc. 2023-16859 Filed 8-7-23; 8:45 am]

BILLING CODE 3410-08-P